DEPARTMENT OF STATE

[Public Notice 10810]

In the Matter of the Amendment of the Designation of Jundallah (and other aliases) as a Specially Designated Global Terrorist

Based on a review of the administrative record assembled in this matter, and in consultation with the Attorney General and the Secretary of the Treasury, I have concluded that there is a sufficient factual basis to find that Jundallah, also known as People's Resistances Movement of Iran (PMRI), also known as Jonbesh-i Moqavemat-i-Mardom-i Iran, also known as The Popular Resistance Movement of Iran, also known as Soldiers of God, also known as Fedayeen-e-Islam, also known as Former Jundallah of Iran, also known as Jundullah, also known as Jondullah, also known as Jundollah, also known as Jondollah, also known as Jondallah, also known as Army of God (God's Army), also known as the Baloch Peoples Resistance Movement (BPRM), uses the additional alias Jaysh al-Adl, also known as Jeysh al-adl, also known as Army of Justice, also known as Jaish ul-Adl, also known as Jaish al-Adl, also known as Jaish Aladl, also known as Jeish al-Adl, as its primary name.

Therefore, pursuant to Section 1(b) of Executive Order 13224, I hereby amend the designation of Jundallah as a Specially Designated Global Terrorist to include the following new aliases: Jaysh al-Adl, Jeysh al-adl, Army of Justice, Jaish ul-Adl, Jaish al-Adl, Jaish Aladl, Jeish al-Adl,

This notice shall be published in the Federal Register.

Dated: November 26, 2018.
Michael R. Pompeo,
Secretary of State.

Editorial note: This document was received for publication by the Office of the Federal Register on June 27, 2019.

[FR Doc. 2019-14114 Filed 7-1-19; 8:45 am]

BILLING CODE 4710-AD-P